DEPARTMENT OF AGRICULTURE

Forest Service

Nebraska National Forests and Grasslands; Nebraska and South Dakota; Undesirable Plant Management EIS

AGENCY: Forest Service, Agriculture (USDA).

ACTION: Notice of intent to prepare an environmental impact statement.

SUMMARY: The Forest Service, USDA, will prepare an Environmental Impact Statement (EIS) to address undesirable plant management for the Nebraska National Forests and Grasslands (Forests). This environmental analysis is necessary to protect, maintain, or restore native plant communities from the negative effects of undesirable plants. The proposal will analyze an update of the Forests' guidance from the May 1993 Environmental Assessment (EA) for the Management of Undesirable Plant Species.

DATES: Comments concerning the scope of the analysis must be received by February 10, 2023. The draft environmental impact statement is expected June 2023 and the final environmental impact statement is expected March 2024.

ADDRESSES: Send written comments to Nebraska National Forests and Grasslands, 125 North Main Street, Chadron, NE 69337. Comments may also be sent electronically to https://www.fs.usda.gov/project/?project=62500, or via facsimile to 308-432-0309.

FOR FURTHER INFORMATION CONTACT: Kimberly Dolatta at 308-432-0323 or kimberly.dolatta@usda.gov. Individuals who use telecommunication devices for the deaf (TDD) may call the Federal Information Relay Service (FIRS) at 1-800-877-8339, 24 hours a day, every day of the year, including holidays.

SUPPLEMENTARY INFORMATION:

Purpose and Need for Action

Existing undesirable plant species management on the Forests is based on environmental analyses that did not analyze management strategies such as aerial application of herbicides, use of prescribed fire, or the treatment of aquatic invasive species. Existing policies for undesirable plant management on the Forests do not address new undesirable plant species, nor do they provide modernized tools and practices for swift management of infestations. Failure to control or eradicate infestations of undesirable plants alters wildlife habitat, decreases wildlife and livestock forage, reduces species diversity, increases soil erosion due to a decrease in surface cover, promotes undesirable monocultures, and potentially alters the fire return interval. Additionally, some undesirable plants are known to be toxic to animals and/or humans.

The Forest Service must update past enviromental analyses to include guidance for management strategies on the Forests to protect, maintain, or restore native plant communities from the negative effects of undesirable plants. This will include consideration of practices to support early detection, rapid assessment, and rapid response to new infestations, new undesirable plant species, landscape-scale disturbances, and the availability of new management tools.

Proposed Action

The Forest Service proposes to update the Forests' guidance for plant management strategies through an environmental analysis for the management of invasive, noxious, alien, non-native, and undesirable native plant species. Section 2814 of title 7 of the United States Code defines the term “undesirable plants” as plant species that are classified as undesirable, noxious, harmful, exotic, injurious, or poisonous, pursuant to State or Federal law. This definition does not include the management of undesirable native plant species, but the Forests intend to include the management of specific native plants for the purpose of maintaining established desired conditions described in the Forests' land and resource management plan. Early detection and rapid response, control methods and preventative measures, rehabilitation and restoration, and implementation and effectiveness monitoring would be designed to allow prompt treatment of undesirable plant infestations.

Proposed control methods would include, but are not limited to (1) biological control, such as the release of host-specific natural enemies or targeted grazing; (2) chemical control using agency approved herbicides that target undesirable plant species; (3) mechanical techniques, such as mowing, cutting, or pulling; and (4) prescribed fire conducted in accordance with fire suppression and prescribed burn management policy. Control methods would be employed alone or in combination to achieve the most effective control. Treatment methods would be based on the extent, location, type, and character of an infestation and would be implemented using design criteria developed to ensure ecosystem health. Treated acre totals could be those that are treated a single time or multiple times annually using a combination of methods. Rehabilitation and restoration actions would be designed and implemented based on the conditions found in and around infested areas.

The Forest Service would like to schedule implementation to begin in 2024. Forest-wide combined treatments of up to 100,000 acres annually over a 15-year period would be expected. Further information is available on the project website: https://www.fs.usda.gov/project/?project=62500.

Expected Impacts

Preliminary issues being considered by the Forest Service include the effects of undesirable plant management treatments on native vegetation, biological diversity, natural productivity, and habitat structure; threatened, endangered, or sensitive species and their habitats; soils, water, and aquatic resources; and on human health. Commenters are encouraged to identify additional issues.

Responsible Official

The Responsible Official will be the Forest Supervisor for the Nebraska National Forests and Grasslands.

Scoping Comments and the Objection Process

This notice of intent initiates the scoping process, which guides the development of the EIS. The agency is requesting comments on potential alternatives and impacts, and identification of any relevant information, studies, or analyses of any kind concerning impacts affecting the quality of the human environment.

It is important that reviewers provide their comments at such times and in such manner that they are useful to the agency's preparation of the EIS. Therefore, comments should be provided prior to the close of the comment period and should clearly articulate the reviewer's concerns, remedies for those concerns, other recommendations, general support, and/or opportunities to further clarify information. Commenting during scoping and any other designated opportunity to comment provided by the Responsible Official will also establish standing to object once the final EIS and Draft Record of Decision have been published. This project is subject to the agency's Project Level Predecisional Administrative Review Process (36 CFR part 218, subparts A and B). Comments received in response to this solicitation, including names and addresses of those who comment, will be part of the public record for this proposed action. Comments submitted anonymously will be accepted and considered, however, they will not be used to establish standing for the objection process.

Permits, Licenses or Other Authorizations Required

Pesticide (herbicide) applicators must be certified and licensed by the South Dakota Department of Agriculture and Natural Resources (South Dakota Codified Law § 38-21). The Nebraska Department of Agriculture is responsible for the certification and licensing of pesticide applicators in Nebraska under the Nebraska Pesticide Act (Nebraska Statute 2-2622).

Nature of Decision To Be Made

Given the purpose and need, the Responsible Official will review the proposed action, the other alternatives (including the no-action alternative), and the environmental consequences in order to determine whether to expand current guidance to control and manage undesirable plant species; what control methods or herbicides would be used; what protection and monitoring measures would be required; and whether to include an adaptive management approach to address future spread of undesirable plant species.

The decision will consider the Forests' land and resource management plan direction for achievement of desired conditions for native vegetation and habitats. Reconsideration of other existing project-level decisions, programmatic decisions, or additional guidance for future forest management activities are beyond the scope of this document.

Dated: January 5, 2023.
Troy Heithecker,
Associate Deputy Chief, National Forest System.

[FR Doc. 2023-00361 Filed 1-10-23; 8:45 am]

BILLING CODE 3411-15-P